POSTAL REGULATORY COMMISSION

[Docket Nos. CP2025-6 and MC2025-1310; Order No. 8808]

Competitive Postal Products

AGENCY: Postal Regulatory Commission.

ACTION: Notice.

SUMMARY: The Commission is recognizing a recent filing by the Postal Service of specific rates for its Inbound Letter Post Small Packets and Bulky Letters product effective January 1, 2026. This notice informs the public of the filing, invites public comment, and takes other administrative steps.

DATES: Comments are due: April 24, 2025.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Administrative Actions

IV. Ordering Paragraphs

I. Introduction

On April 15, 2025, the Postal Service filed a notice of rates not of general applicability for Inbound Letter Post Small Packets and Bulky Letters (Inbound E-format Letter Post), and a notice of minor classification changes to Mail Classification Schedule (MCS) section 2340 concerning Inbound Letter Post Small Packets and Bulky Letters, both of which will take effect on January 1, 2026.¹ The Postal Service requests that the Commission favorably review the proposed prices so that the Postal Service may submit the prices to the Universal Postal Union (UPU) before the May 1, 2025 deadline. Notice at 11-12. The Postal Service also requests that the Commission adopt the proposed minor classification changes to MCS section 2340. Id. at 12.

¹ Notice of the United States Postal Service of Rates Not of General Applicability for Inbound E-Format Letter Post, Notice of Minor Classification Changes, and Application for Non-Public Treatment, April 15, 2025, at 1 (Notice).

II. Contents of Filing

In its Notice, the Postal Service proposes new prices for the Inbound Letter Post Small Packets and Bulky Letters product. Id. at 4. The UPU International Bureau (IB) requested via letter that designated operators that want to self-decare their inbound E-format rates for calendar year (CY) 2026 to submit those rates to the IB by May 1, 2025, rather than the June 1, 2025 deadline that had previously applied under the Universal Postal Convention.² The Postal Service states that the proposed prices comply with 39 U.S.C. 3633. Notice at 8. To support its proposed Inbound Letter Post Small Packets and Bulky Letters prices, the Postal Service filed the proposed prices, a copy of the certification required under 39 CFR 3035.105(c)(2), and a redacted copy of Governors' Decision No. 19-1. Id. at 6; see id. Attachments 2-4. The Postal Service also filed redacted financial workpapers. Notice at 7. In addition, the Postal Service filed an unredacted copy of Governors' Decision No. 19-1, the unredacted new prices, and unredacted financial information under seal. Id. at 6-7. The Postal Service also provided an application for non-public treatment of materials filed under seal filed pursuant to 39 CFR part 3011. Id. at 6; see id. Attachment 1.

² Id. at 3-4; Universal Postal Union Letter to Designated Operators, dated March 18, 2025, available at https://www.upu.int/en/postal-solutions/programmes-services/remuneration/terminal-dues/provisional-terminal-dues-rates; Universal Postal Convention Article 29.1, available at https://www.upu.int/UPU/media/upu/files/aboutUpu/acts/02-actsGeneralRegulations/11_Convention_1.pdf.

The Postal Service also proposes minor classification changes to MCS section 2340 concerning Inbound Letter Post Small Packets and Bulky Letters, pursuant to 39 CFR 3040.190. Id. at 8. The Postal Service explains that the proposed changes should result in the MCS more accurately representing the Postal Service's offerings as of January 1, 2026, and they are also mandated by amendments to the Universal Postal Convention Article 18 that were adopted by the UPU Riyadh Congress in 2023. Id. at 9. These UPU amendments require the offering of tracked delivery service for inbound letter-post items containing goods effective January 1, 2025, and require the offering of registered service for inbound letter-post items containing only documents (not goods) effective January 1, 2026. Id. at 10. Therefore, the Postal Service proposes to restrict Competitive International Registered Mail, an optional international ancillary service, to Inbound Letter Post Small Packets and Bulky Letters containing documents only, effective January 1, 2026. Id.; see id. Attachment 5. The Postal Service states that the proposed changes are minor instead of material in nature, and they are consistent with the policies and applicable criteria of chapter 36 of Title 39 of the United States Code, 39 CFR 3040.190-192, and applicable Commission directives and orders. Notice at 10-11. The Postal Service submits the proposed changes to the MCS in legislative format in Attachment 5 to the Notice. Id. at 9; see id. Attachment 5.

III. Administrative Actions

The Commission establishes Docket Nos. CP2025-6 and MC2025-1310 for consideration of matters raised by the Notice. Pursuant to 39 CFR 3010.101(q)(3) and 3040.191(d), the Commission appoints Katalin Clendenin to serve as Public Representative in these dockets. The Public Representative does not represent any individual person, entity or particular point of view, and, when Commission attorneys are appointed, no attorney-client relationship is established. The Commission invites comments on whether the Postal Service's filing is consistent with 39 U.S.C. 3632 and 3633 and other appliable policies and criteria of chapter 36 of Title 39 of the United States Code, 39 CFR 3035.105 and .107, 3040.190-192, and any applicable Commission directives and orders. Comments are due no later than April 24, 2025. The public portions of the filing can be accessed via the Commission's website (https://www.prc.gov).

IV. Ordering Paragraphs

It is ordered:

1. The Commission establishes Docket Nos. CP2025-6 and MC2025-1310 for consideration of the matters raised by the Postal Service's Notice.

2. Comments are due no later than April 24, 2025.

3. Pursuant to 39 CFR 3010.101(q)(3) and 3040.191(d), Katalin Clendenin will serve as an officer of the Commission (Public Representative) to represent the interests of the general public in these dockets.

4. The Secretary shall arrange for publication of this Order in the Federal Register.

By the Commission.
Erica A. Barker,
Secretary.

[FR Doc. 2025-06948 Filed 4-22-25; 8:45 am]

BILLING CODE 7710-FW-P